DEPARTMENT OF ENERGY

Federal Energy Regulatory Commission

Combined Notice of Filings #2

Take notice that the Commission received the following electric corporate filings:

Docket Numbers: EC16-164-000.

Applicants: Georgia Power Company.

Description: Amendment to August 8, 2016 Application of Georgia Power Company Pursuant to Section 203 of the Federal Power Act for Authorization to Sell Certain Transmission Facilities and Request for Expedited Action.

Filed Date: 10/12/16.

Accession Number: 20161012-5171.

Comments Due: 5 p.m. ET 11/2/16.

Docket Numbers: EC17-1-000.

Applicants: Entergy Mississippi, Inc.

Description: Supplement to October 3, 2016 Application of Entergy Mississippi, Inc. under Section 203 [Exhibits A through L and replacement Exhibit M].

Filed Date: 10/12/16.

Accession Number: 20161012-5184.

Comments Due: 5 p.m. ET 11/2/16.

Take notice that the Commission received the following electric rate filings:

Docket Numbers: ER17-83-000.

Applicants: Midcontinent Independent System Operator, Inc.

Description: § 205(d) Rate Filing: 2016-10-13 _SA 2959 Northern States Power-Stoneray Power Partners GIA (J426) to be effective 10/14/2016.

Filed Date: 10/13/16.

Accession Number: 20161013-5149.

Comments Due: 5 p.m. ET 11/3/16.

Docket Numbers: ER17-84-000.

Applicants: PJM Interconnection, L.L.C.

Description: § 205(d) Rate Filing: First Revised ISA No. 4209, Queue No. X2-025/X4-019/Z1-090/AA2-171 to be effective 9/13/2016.

Filed Date: 10/13/16.

Accession Number: 20161013-5164.

Comments Due: 5 p.m. ET 11/3/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 13, 2016.
Nathaniel J. Davis, Sr.,
Deputy Secretary.

[FR Doc. 2016-25242 Filed 10-18-16; 8:45 am]

BILLING CODE 6717-01-P